ENVIRONMENTAL PROTECTION AGENCY

[CT-044-7171, FRL-6717-7]

Adequacy Status of the VOC and NOX Budgets for Connecticut Submitted for Transportation Conformity Purposes as Part of Their Addenda to the Ozone Attainment Demonstrations for the Southwest Connecticut Severe Ozone Nonattainment Area and the Greater Connecticut Serious Ozone Nonattainment Area

AGENCY: Environmental Protection Agency (EPA).

ACTION: Notice of adequacy.

SUMMARY: In this document EPA is notifying the public that we have found that the 2007 budgets received from Connecticut on February 15, 2000 adequate for conformity purposes. This includes VOC and NOX motor vehicle emission budgets for the Southwest Connecticut severe ozone nonattainment area and the Greater Connecticut serious ozone nonattainment area. On March 2, 1999, the D.C. Circuit Court ruled that submitted SIPs cannot be used for conformity determinations until EPA has affirmatively found them adequate. As a result of our finding, Connecticut can use the motor vehicle emissions budgets from the submitted SIP addenda for future conformity determinations.

DATES: These budgets are effective July 3, 2000.

FOR FURTHER INFORMATION CONTACT: The finding and the response to comments are available at EPA's conformity website: http://www.epa.gov/oms/traq (once there, click on the “Conformity” button, then look for “Adequacy Review of SIP Submissions for Conformity”). You may also contact Jeff Butensky, Environmental Planner, One Congress Street, Suite 1100 (CAQ), Boston, MA 02114-2023; (617) 918-1665; butensky.jeff@epa.gov.

SUPPLEMENTARY INFORMATION:

Background

Today's document publishes the Region's finding that the motor vehicle emissions budgets for the Southwest Connecticut severe ozone nonattainment area and the Greater Connecticut serious ozone nonattainment area for 2007 for VOC and NOX are adequate for transportation conformity purposes. This finding has also been announced on EPA's conformity website: http://www.epa.gov/oms/traq (once there, click on the “Conformity” button, then look for “Adequacy Review of SIP Submissions for Conformity”).

Transportation conformity is required by section 176(c) of the Clean Air Act. EPA's conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in guidance (May 14, 1999 memo titled “Conformity Guidance on Implementation of March 2, 1999 Conformity Court Decision”). We followed this guidance in making and publishing our adequacy determination.

Authority: 42 U.S.C. 7401-7671q.

Dated: June 1, 2000.
Mindy S. Lubber,
Regional Administrator, EPA New England.

[FR Doc. 00-15296 Filed 6-15-00; 8:45 am]

BILLING CODE 6560-50-U